SMALL BUSINESS ADMINISTRATION

[Disaster Declaration #12357 and #12358]

Connecticut Disaster #CT-00016

AGENCY: U.S. Small Business Administration.

ACTION: Notice.

SUMMARY: This is a notice of an Administrative declaration of a disaster for the State of Connecticut dated 10/18/2010.

Incident: Severe storm and tornado.

Incident Period: 06/24/2010.

Effective Date: 10/18/2010.

Physical Loan Application Deadline Date: 12/17/2010.

Economic Injury (EIDL) Loan Application Deadline Date: 07/18/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Fairfield.

Contiguous Counties: Connecticut: Litchfield, New Haven.

New York: Dutchess, Putnam, Westchester.

The Interest Rates are:

| Percent
For Physical Damage:
Homeowners With Credit Available Elsewhere | 5.500
Homeowners Without Credit Available Elsewhere | 2.750
Businesses With Credit Available Elsewhere | 6.000
Businesses Without Credit Available Elsewhere | 4.000
Non-Profit Organizations With Credit Available Elsewhere | 3.625
Non-Profit Organizations Without Credit Available Elsewhere | 3.000
For Economic Injury:
Businesses & Small Agricultural Cooperatives Without Credit Available Elsewhere | 4.000
Non-Profit Organizations Without Credit Available Elsewhere | 3.000

The number assigned to this disaster for physical damage is 12357 C and for economic injury is 12358 O.

The States which received an EIDL Declaration # are Connecticut; New York.

(Catalog of Federal Domestic Assistance Numbers 59002 and 59008)

Dated: October 18, 2010.
Karen G. Mills,
Administrator.

[FR Doc. 2010-26792 Filed 10-21-10; 8:45 am]

BILLING CODE 8025-01-P